DEPARTMENT OF JUSTICE

Drug Enforcement Administration

Manufacturer of Controlled Substances; Notice of Application

Pursuant to Section 1301.33(a) of Title 21 of the Code of Federal Regulations (CFR), this is notice that on March 31, 2006, Applied Science Labs, Division of Alltech Associates Inc., 2701 Carolean Industrial Drive, State College, Pennsylvania 16801, made application by renewal to the Drug Enforcement Administration (DEA) to be registered as a bulk manufacturer of the basic classes of controlled substances listed in Schedule I and II:

Drug | Schedule
Methcathinone (1237) | I
N-Ethylamphetamine (1475) | I
N,N-Dimethylamphetamine (1480) | I
4-Methylaminorex (cis isomer) (1590) | I
Alpha-Ethyltryptamine (7249) | I
Lysergic acid diethylamide (7315) | I
2, 5-dimethoxy-4-n)-propylthiophenethylamine (2C-T-7) (7348) | I
Tetrahydrocannabinols (7370) | I
Mescaline (7381) | I
4-Bromo-2,5-dimethoxyamphetamine (7391) | I
4-Bromo-2,5-dimethoxyphenethylamine (7392) | I
4-Methyl-2,5-dimethoxyamphetamine (7395) | I
2,5-Dimethoxyamphetamine (7396) | I
2-5-Dimethoxy-4-ethylamphetamine (7399) | I
3,4-Methylenedioxyamphetamine (7400) | I
N-Hydroxy-3,4-methylenedioxyamphetamine (7402) | I
3,4-Methylenedioxy-N-ethylamphetamine (7404) | I
3,4-Methylenedioxymethamphetamine (7405) | I
4-Methoxyamphetamine (7411) | I
Alpha-methyltryptamine (AMT) (7432) | I
Bufotenine (7433) | I
Diethyltryptamine (7434) | I
Dimethyltryptamine (7435) | I
Psilocybin (7437) | I
Psilocyn (7438) | I
5-methoxy-N-,N-diisopropyltryptamine (5-MeO-DIPT) (7439) | I
N-Ethyl-1-phenylcyclohexylamine (7455) | I
1-(1-Phenylcyclohexyl)pyrrolidine (PCPy) (7458) | I
1[1-(2 Thienyl)cyclohexyl] piperidine (7470) | I
Dihydromorphine (9145) | I
Normorphine (9313) | I
Methamphetamine (1105) | II
1-Phenylcylohexylamine (7460) | II
Phencyclidine (7471) | II
Phenylacetone (8501) | II
1-Piperidinocyclohexanecarbonitrile (8603) | II
Cocaine (9041) | II
Codeine (9050) | II
Dihydrocodeine (9120) | II
Benzoylecgonine (9180) | II
Ethylmorphine (9190) | II
Meperidine intermediate-B (9233) | II
Morphine (9300) | II
Noroxymorphone (9668) | II

The company plans to manufacture high purity drug standards used for analytical application only in clinical, toxicological and forensic laboratories.

Any other such applicant and any person who is presently registered with DEA to manufacture such a substance may file comments or objections to the issuance of the proposed registration pursuant to 21 CFR 1301.33(a).

Any such written comments or objections being sent via regular mail may be addressed, in quintuplicate, to the Deputy Assistant Administrator, Office of Diversion Control, Drug Enforcement Administration, Washington, DC 20537, Attention: DEA Federal Register Representative, Liaison and Policy Section (ODL); or any being sent via express mail should be sent to DEA Headquarters, Attention: DEA Federal Register Representative/ODL, 2401 Jefferson-Davis Highway, Alexandria, Virginia 22301; and must be filed no later than October 13, 2006.

Dated: July 26, 2006.
Joseph T. Rannazzisi,
Deputy Assistant Administrator, Office of Diversion Control, Drug Enforcement Administration.

[FR Doc. E6-13221 Filed 8-11-06; 8:45 am]

BILLING CODE 4410-09-P